DEPARTMENT OF HEALTH AND HUMAN SERVICES

Centers for Medicare & Medicaid Services

[Document Identifier CMS-10249 and CMS-10409]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Administrative Requirements for Section 6071 of the Deficit Reduction Act; Use: Under section 6071 of the Deficit Reduction Act of 2005 (Pub. L. 109-171) subsection (c), the Secretary may require States to meet requirements and provide additional information, provisions, and assurances. Through the Operational Protocol, States provide the requirements, information, provisions and assurances which, following CMS approval, States may enroll individuals in the State's demonstration program or begin to claim for service dollars. The Act also requires the Money Follows the Person Rebalancing Demonstration (MFP) program be evaluated to determine program effectiveness. One aspect of the evaluation is determining participant quality of life and how the program affects quality of life. Medicaid enrollees who participate in the MFP program are expected to have need for long-term care services for the rest of their lives and are a particularly vulnerable population if the community setting cannot adequately meet their needs or does not provide them a suitable quality of life.

State Operational Protocols should provide enough information that: the CMS Project Officer and other Federal officials may use it to understand the operation of the demonstration and/or prepare for potential site visits without needing additional information; the State Project Director can use it as the manual for program implementation; and external stakeholders may use it to understand the operation of the demonstration. The financial information collection will be used in CMS financial statements and shared with the auditors who validate CMS' financial position. The Maintenance of Effort forms as well as the MFP Budget Form are required each year. Submissions of MFP Demonstration Financial Forms are 90 days after the end of each Federal fiscal quarter. The MFP Finders File, MFP Program Participation Data file, and MFP Services File will be used by the national evaluation contractor to assess program outcomes. The MFP Quality of Life data will be used by the national evaluation contractor to assess program outcomes. Specifically, the evaluation will determine how participants' quality of life changes after transitioning to the community. The semi-annual progress reports will be used by the national evaluation contractor and CMS to monitor program implementation at the grantee level; Form Number: CMS-10249 (OCN: 0938-1053); Frequency: Yearly, Semi-annually, Quarterly, Once; Affected Public: State, Local, or Tribal Governments; Number of Respondents: 43; Total Annual Responses: 360; Total Annual Hours: 9,360. (For policy questions regarding this collection contact Marybeth Ribar at (410) 786-1121. For all other issues call (410) 786-1326.)

2. Type of Information Collection Request: New collection; Title of Information Collection: Long Term Care Hospital (LCTH) Quality Reporting Program—Pressure Ulcer Measure Data Set; Use: Section 3004 of the Affordable Care Act authorizes the establishment of a new quality reporting program for Long Term Care Hospitals (LTCHs). LTCHs that fail to submit quality measure data may be subject to a 2 percentage point reduction in their annual update to the standard Federal rate for discharges occurring during a rate year, beginning in FY 2014. One of the quality measures LTCHs are required to collect and submit data on is the Percent of Residents with Pressure Ulcers That Are New or Have Worsened.

Currently, there are no mandatory standardized data sets being used in LTCHs. Therefore, we have created a new data set to be used in LTCHs, which incorporates data items contained in other, well known and clinically established pressure ulcer data sets, including but not limited to the Minimum Data Set 3.0 (MDS 3.0) and CARE data set (Continuity Assessment Records & Evaluation).

Beginning on October 1, 2012, LTCHs will begin to use a data collection document entitled the “LTCH CARE Data Set” as the vehicle by which to collect the pressure ulcer data for the LTCH quality reporting program. This data set consists of the following components: (1) Pressure ulcer documentation; (2) selected covariates related to pressure ulcers; (3) patient demographic information; and; (4) a provider attestation section. The use of the LTCH CARE Data Set is necessary in order to allow CMS to collect LTCH quality measures data in compliance with Section 3004 of the Affordable Care Act. There are no other reasonable alternatives available to CMS for the collection and submission of pressure ulcer data.

The 60 day Federal Notice published on Friday, September 2, 2011 (76 FR 54776). Since September 2, 2011, CMS has worked on the operational aspects of the LTCH Quality Reporting Program. While performing this work, CMS determined that several non-material changes were needed on the LTCH CARE Data Set. These changes have been made merely to correct minor errors and do not increase the burden to the provider. Form Number: CMS-10409 (OCN: 0938-New); Frequency: Occasionally; Affected Public: Private Sector: Business or other for-profit and not-for-profit institutions; Number of Respondents: 3,531; Total Annual Responses: 3,531; Total Annual Hours: 883. (For policy questions regarding this collection contact Caroline Gallaher at (410) 786-8705. For all other issues call (410) 786-1326.

To obtain copies of the supporting statement and any related forms for the proposed paperwork collections referenced above, access CMS Web Site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on January 27, 2012.

OMB, Office of Information and Regulatory Affairs, Attention: CMS Desk Officer, Fax Number: (202) 395-6974,

Email: OIRA_submission@omb.eop.gov.

Dated: December 21, 2011.
Martique Jones,
Director, Regulations Development Group, Division-B, Office of Strategic Operations and Regulatory Affairs.

[FR Doc. 2011-33321 Filed 12-27-11; 8:45 am]

BILLING CODE 4120-01-P